DEPARTMENT OF THE INTERIOR

Bureau of Land Management

[L51010000.FX0000.LVRWA11A2990.LLAZP000000; AZA35079]

Notice of Intent To Prepare an Environmental Impact Statement for the Proposed Sun Valley to Morgan 500/230kV Transmission Line Project (Formerly Called TS-5 to TS-9), Maricopa County, Arizona, and Possible Land Use Plan Amendment

AGENCY: Bureau of Land Management, Interior.

ACTION: Notice of Intent.

SUMMARY: In compliance with the National Environmental Policy Act of 1969 (NEPA), as amended, and the Federal Land Policy and Management Act of 1976, as amended, the Bureau of Land Management (BLM) Hassayampa Field Office, Phoenix, Arizona, intends to prepare an Environmental Impact Statement (EIS) which may include discussion of an amendment to the Bradshaw-Harquahala Resource Management Plan (RMP), and by this notice is announcing the beginning of the scoping process to solicit public comments and identify issues.

DATES: This notice initiates the public scoping process for the EIS and possible plan amendment. Comments on issues may be submitted in writing until May 26, 2011. The date(s) and location(s) of any scoping meetings will be announced at least 15 days in advance through local media and the BLM Web site at: http://www.blm.gov/az/st/en.html. In order to be included in the Draft EIS, all comments must be received prior to the close of the scoping period or 15 days after the last public meeting, whichever is later. We will provide additional opportunities for public participation upon publication of the Draft EIS.

ADDRESSES: You may submit comments on project issues and planning criteria related to the Bradshaw-Harquahala Resource Management Plan by any of the following methods:

• Web site: http://www.blm.gov/az/st/en.html.

• E-mail: SunValley-Morgan@blm.gov.

• Fax: 623-580-5580.

• Mail: BLM, Phoenix District Office, Hassayampa Field Office, Attention: Joe Incardine/Sun Valley-Morgan Project, 21605 North 7th Avenue, Phoenix, Arizona 85207-2929.

Documents pertinent to this proposal may be examined at the Hassayampa Field Office.

FOR FURTHER INFORMATION CONTACT: For further information and/or to have your name added to our mailing list, contact Joe Incardine, National Project Manager, telephone 801-524-3833; address BLM, Phoenix District Office, Hassayampa Field Office, 21605 North 7th Avenue, Phoenix, Arizona 85207-2929; e-mail Joe_Incardine@blm.gov.

SUPPLEMENTARY INFORMATION: The applicant, Arizona Public Service, has requested a right-of-way (ROW) authorization to construct, operate, and maintain a single-circuit 500-kilovolt (kV) and a single-circuit 230-kV overhead transmission line (constructed on the same structures or poles). The project area involves about 8 miles of public land along a route that is approximate 38 miles long. The proposed 500-kV portion of the project would strengthen the reliability of the regional 500-kV system and could facilitate delivery of renewable energy resources to load centers, such as the Phoenix metropolitan area. The proposed 230-kV portion of the project would provide a source to serve a future load anticipated to emerge within present undeveloped areas within the Town of Buckeye, the City of Surprise, the City of Peoria, and unincorporated Maricopa County. The transmission line would connect the Sun Valley (formerly TS-5) Substation located in the Town of Buckeye with the Morgan (formerly TS-9) Substation located in the City of Peoria.

An estimated 190 acres of public land would be necessary to accommodate the right-of-way for the transmission line, its associated construction areas, and access roads. To the extent possible, existing roads would be used for access for construction and maintenance. The public land that would be affected is in two separate areas: (1) Near the Sun Valley Substation, north of the Central Arizona Project canal in Buckeye, and (2) parallel to SR 74 in the City of Peoria and unincorporated Maricopa County. The transmission line would also cross State Trust land managed by the Arizona State Land Department, as well as privately owned lands. The transmission line may include steel monopole or lattice structures between 135- and 195-feet tall, with spans between structures ranging from 800- to 1,400-feet, depending on terrain. The right-of-way would be 200-feet wide. Structure locations cannot be determined until a specific right-of-way is identified and the final design completed.

The proposed right-of-way across public land is within a corridor for this transmission line certificated by the Arizona Corporation Commission in March 2009. However, the BLM's Bradshaw-Harquahala RMP (2010) does not have a utility or multi-use corridor designation where the proposed transmission line is to be located on the public land along SR 74. Generally, BLM land use plans contain corridor designations for major right-of-way projects such as electric transmission facilities accommodating lines of 115kV or greater voltage. The current BLM plan states that “all major utilities will be routed through designated corridors.”

Authorization of this ROW project may require an amendment of the Bradshaw-Harquahala RMP. By this notice, the BLM is complying with requirements in 43 CFR 1610.2(c) to notify the public of potential amendments to land use plans, predicated on the findings of the EIS. If a land use plan amendment is necessary, the BLM will integrate the land use planning process with the NEPA process for this project. The BLM will comply with Secretarial Order 3310 concerning lands with wilderness characteristics. The BLM will also utilize and coordinate the NEPA commenting process to satisfy the public involvement process for section 106 of the National Historic Preservation Act (NHPA) (16 U.S.C. 470f) as provided for in 36 CFR 800.2(d)(3). Native American Tribal consultations will be conducted in accordance with policy, and Tribal concerns, including impacts on Indian trust assets, will be given due consideration. Federal, State, and local agencies, along with other stakeholders that may be interested or affected by the BLM's decision on this project, are invited to participate in the scoping process and, if eligible, may request or be requested by the BLM to participate as a cooperating agency.

The purpose of the public scoping process is to determine relevant issues that will influence the scope of the environmental analysis, including alternatives, and guide the process for developing the EIS. At present, the BLM has identified the following preliminary issues: visual, desert tortoise and other desert wildlife.

Before including your address, phone number, e-mail address, or other personal identifying information in your comment, you should be aware that your entire comment—including your personal identifying information—may be made publicly available at any time. While you can ask us in your comment to withhold your personal identifying information from public review, we cannot guarantee that we will be able to do so.

Authority: 43 CFR 1610.2; 43 CFR 2800.

James G. Kenna,
Arizona State Director.

[FR Doc. 2011-8551 Filed 4-8-11; 8:45 am]

BILLING CODE 4310-32-P